DEPARTMENT OF STATE

[Public Notice 3380]

Bureau of Educational and Cultural Affairs; International Education and Cultural Activities Open Grant Program; Request for Proposals

SUMMARY: The Office of Citizen Exchanges, Bureau of Educational and Cultural Affairs of the U.S. Department of State, announces an open competition for an assistance award program. U.S. public or private non-profit organizations meeting the provisions described in IRS regulation 26 CFR 1.501c may apply to develop projects that link their international exchange interests with counterpart institutions/groups in ways supportive of the aims of the Bureau of Educational and Cultural Affairs.

Overall grant making authority for this program is contained in the Mutual Educational and Cultural Exchange Act of 1961, as amended, Public Law 87-256, also known as the Fulbright Hays Act.

The purpose of the Act is “to enable the Government of the United States to increase mutual understanding between the people of the United States and the people of other countries * * *; to strengthen the ties which unite us with other nations by demonstrating the educational and cultural interests, developments, and achievements of the people of the United States and other nations. * * * and thus to assist in the development of friendly, sympathetic and peaceful relations between the United States and the other countries of the world.” Proposals for exchange projects that address issues of crucial importance to the United States and to proposed partner countries but that do not respond specifically to themes included below will also be considered. Programs and projects must conform with Bureau requirements and guidelines outlined in the Application Package. Bureau projects and programs are subject to the availability of funds.

Interested applicants should read the complete Federal Register announcement before addressing inquiries to the Office of Citizen Exchanges or submitting their proposals. Once the RFP deadline has passed, the Office of Citizen Exchanges may not discuss this competition in any way with applicants until after the Bureau program and project review process has been completed.

Announcement Name and Number: All communications concerning this announcement should refer to the Annual Open Grant Program. The announcement number is E/P-01-1. Please refer to title and number in all correspondence or telephone calls to the Office of Citizen Exchanges.

Deadline for Proposals: All copies must be received by the Bureau of Educational and Cultural Affairs by 5 p.m. Washington, DC time on Friday, October 27, 2000. Faxed documents will not be accepted at any time. Documents postmarked by the due date but received at a later date will not be accepted. It is the responsibility of each grant applicant to ensure that proposals are received by the above deadline. This action is effective from the publication date of this notice through October 27, 2000, for projects where activities will begin between March 1, 2001 and December 31, 2001.

FOR FURTHER INFORMATION CONTACT: Interested organizations/institutions must contact the Office of Citizen Exchanges, ECA/PE/C, Room 216, Bureau of Educational and Cultural Affairs, U.S. Department of State, 301 4th Street, SW, Washington, DC 20547, (202) 619-5348, to request detailed application packets which include award criteria; all application forms; and guidelines for preparing proposals, including specific criteria for preparation of the proposal budget.

TO DOWNLOAD A SOLICITATION PACKAGE VIA INTERNET: The Solicitation Package may be downloaded from the Bureau's website at http://exchanges.state.gov/education/rfps. Please read all information before beginning to download.

ADDRESSES: Applicants must follow all instructions in the Solicitation Package. The original and 10 copies should be sent to: U.S. Department of State, SA-44, Bureau of Educational and Cultural Affairs, Ref: E/P-01-1 Annual Open Grant Competition, Program Management, ECA/EX/PM, 301 4th Street, SW, Room 336, Washington, DC 20547.

Applicants must also submit to E/XE the “Executive Summary” and “Proposal Narrative” sections of each proposal on a 3.5″ diskette, formatted for DOS. This material must be provided in ASCII text (DOS) format with a maximum line length of 65 characters. The Bureau will transmit these files electronically to U.S. embassies overseas for their review, with the goal of reducing the time it takes to get the respective Embassy's comments for the Bureau's grants review process.

Diversity, Freedom and Democracy Guidelines

Pursuant to the Bureau's authorizing legislation, projects must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Proposals should account for advancement of this goal, in their program contents, to the full extent deemed feasible.

Overview

The Office of Citizen Exchanges works with U.S. private sector, non-profit organizations on cooperative international group projects that introduce American and foreign participants to each others' social, economic, and political structures and international interests. The Office supports international projects in the United States or overseas involving leaders or potential leaders in the following fields and professions: urban planners, jurists, specialized journalists (specialists in economics, business, political analysis, international affairs), business professionals, NGO leaders, environmental specialists, parliamentarians, educators, economists, and other government officials.

Guidelines

Applicants should carefully note the following restrictions/recommendations for proposals in specific geographical areas:

Central and Eastern Europe (CEE) and the Newly Independent States (NIS)

Requests for proposals involving the following countries will be announced in separate competitions: CEE—Albania, Bosnia-Herzegovina, Bulgaria, Croatia, Czech Republic, Estonia, Hungary, Latvia, Lithuania, Macedonia, Poland, Romania, Slovak Republic, and Slovenia; NIS—Armenia, Azerbaijan, Belarus, Georgia, Kazakhstan, Kyrgyzstan, Moldova, Russia, Tajikistan, Turkmenistan, Ukraine, and Uzbekistan. Proposals involving these regions will not be accepted under this competition.

Western Europe (WEU)

Proposals involving this region will not be accepted under this competition.

East Asia and the Pacific (EAP)

For all of EAP: We welcome proposals that directly respond to the following suggestions in each of the following countries. Given budgetary consideration, projects in other countries and for other themes will not be eligible for consideration.

For China: We welcome proposals in the following fields:

(1) Rule of Law: Projects focussed on the protection of intellectual property rights, judicial reform and court administration are encouraged as well as projects designed to assist in the development of China's economic legal framework to support the implementation of membership in the WTO.

(2) NGO Development: Projects designed to strengthen the role of NGOs in Chinese society and the Chinese Government's cooperation with NGOs through an exchange of representatives from NGOs and public-sector organizations cutting across fields such as legal aid, consumerism, family issues, and environmental protection to examine the role of NGOs and public-private sector cooperation in the U.S.

For Indonesia: We welcome proposals in the following areas:

(1) Political Leadership: Projects that focus on meeting the challenges and responsibilities of public office; specifically, projects on rule of law; transparency in government, and funding and regulatory processes.

(2) Strengthening Grassroots Democracy: Projects that include training NGO leadership and addressing organizational governance issues; building locations, networking, lobbying elected officials; media strategies needed for the above, volunteerism; addressing civic values; civic education/human rights education; the role of NGOs in mediating conflict in the community.

(3) Local Governance: Projects designed to strengthen local governments and make them more responsive to local needs with emphasis on local government administration, including budget development, financial management, tax policies and mechanisms; election practices, management of municipal services, committee and staff structures; drafting of legislation and relationship with regional and national governments.

(4) Media: Projects to provide training in media ethics and investigate journalism. Ideally, the project in investigative journalism would primarily take place in the U.S. and the project on media ethics would primarily take place in Indonesia.

For Korea: We welcome proposals in the following fields:

(1) The Role of a Free Press in a New Democracy: Projects designed to put Korean Media Associations in direct contact with both Schools of Journalism and media professionals in the U.S. to discuss the proper relationship between the Government and media with emphasis on standards of objectivity and the distinction between editorializing and factual reporting.

(2) NGO Development: Projects will provide support for democratic processes, assisting NGO development and increasing citizen participation with emphasis on teaching practical management and administrative skills relevant to NGOs and to share techniques appropriate to Korea for conducting outreach, education, and fundraising. The training should focus on NGOs dedicated to increasing citizen participation, particularly the role of women in politics. The project's objective would be to improve specific skills of the target NGOs and to support a demonstrable increase in citizen/female political participation.

(3) Local Autonomy: In Korea, the devolution of responsibility from the Central Government to autonomous local bodies continues. The most fundamental problem hampering this process is defining the proper relationship between the Central Government and local bodies. Project submitted under this category should include an element that provides the Korean participants with the direct experiences with the working level local government officials in the U.S. and access to the latest academic research in the field of public administration. Funded projects must be designed to teach participants ideas and concepts that have practical application within the political, economic and societal realities of Korea; identify participants from among local government officials whose work will have a continued impact on their community; consist of modest objectives with a timeframe that is realistic and achievable; provide continuity independent of USG funding.

For Thailand: We seek proposals that address the issue of higher education reform with specific emphasis on the following themes: (1) Definition of the university's relationship with the society and the State with emphasis on the role of the university as innovator; (2) Improvement of the quality of professional education; (3) Stimulation of scientific and technological research within the university to promote local and regional development; (4) Consolidation of the university's role in supporting national culture; (5) Strengthening bonds between the university and the private sector; (6) Rationalization of resources and diversification of financing of the university; (7) Incorporation of new systems of academic and administrative management.

For Vietnam: We welcome proposals on the following themes:

(1) Market Economics: Projects designed to assist in furthering the development of a free market and economic reform in Vietnam with emphasis on the role of privatization and decentralization within the economy.

(2) International Trade: Projects focused on promoting the development of Vietnam's economic legal framework to support the implementation of the U.S.-Vietnam bilateral trade agreement.

ECA contact for EA programs: Raymond Harvey, 202/260-5491; E-Mail (RHarvey@pd.state.gov)

Western Hemispheric Affairs (WHA)

The Office of Western Hemispheric Affairs includes the countries of Canada, Mexico, Central and South America, and the Caribbean.

For all of WHA: We welcome proposals which contribute to strengthening democratic institution building; administration of justice, including exchanges of judges and prosecutors and between associations and NGOs promoting justice; law enforcement, including community-based anti-gang or anti-drug organizations; and economic reform, free trade and regional economic integration, sustainable development, environmental education, public administration, and municipal government for all countries in the region. For the countries mentioned below, some preference may be given to proposals that track closely the following suggestions:

For Mexico: We welcome proposals that would create opportunities for Mexican and U.S. public administration practitioners and academicians to work together. Project activities might focus on such local government issues as responding to the needs of the people it serves; interacting with other levels of government, implementing experimental ideas, and how city administrators communicate with each other. Participants should have opportunities to meet with academics, practitioners, and with NGOs dedicated to improving governance.

For Brazil: We welcome proposals in the field of women and political leadership. Project activities should focus on running for elective office and/or managing electoral campaigns; developing a media strategy; public speaking/communication skills; meeting challenges and responsibilities of public office once elected. Competitive proposals should include a two-week U.S. study tour for at least five Brazilians from five regions (Sao Paulo, Rio de Janeiro, the south, centerwest, and northeast) as well as a two-week in-country program for American trainers.

For Costa Rica, Honduras, El Salvador, and Panama: We welcome proposals in the field of environmental education. Competitive proposals should involve participants in developing pilot environmental education programs in schools and/or with selected municipalities, capitalizing on the new interest of fledgling NGO environmental groups. Hurricane Mitch's destruction raised awareness throughout Central America of the potential for deforestation to intensify the severity of natural disasters. A particularly vulnerable area is the Panama Canal Watershed, whose protection is vital to ensuring adequate water supply for the functioning of the Canal. In El Salvador as well as Panama, there is growing public awareness that the time for action is now and that education is the key. Therefore, for both Panama and El Salvador, we welcome proposals that focus on environmental education in the public schools as well as community-based projects on recycling, resource conservation, and sustainable development.

For Nicaragua and Guatemala: We welcome projects that work to strengthen institutions of government whose work has a direct impact on the quality of a country's democracy and to increase their transparency, accountability, and responsiveness, and effectiveness of operations. Especially welcome would be proposals that address anti-corruption methods. Projects might focus on local government or elements of executive branches, legislatures, or judicial systems. One example might be an exchange for local mayors to see innovations in city government and citizen participation in municipal affairs, with a return visit by a group of U.S. mayors and city managers and municipal experts to hold larger workshops on the same theme.

For Peru: We welcome proposals on decentralization and resource management issues for local government. Competitive proposals should include an exchange for a group of local mayors and other decentralization specialists who would meet with U.S. local government representatives, businesses and neighborhood groups in order to gain a more in-depth understanding of local government in the U.S.

For Haiti: We welcome proposals for the strengthening of civil society organizations.

ECA/PE/C/WHA/EAP contact for WHA programs: Laverne Johnson, 202/619-5337; E-Mail {LJohnson@pd.state.gov}

Africa (AF)

Proposals are requested for projects that would advance sustainable democracy by building human capital in Africa and strengthening partnerships between the United States and Africa in the thematic categories delineated below. These themes are presented in order to stimulate thinking and planning in areas important to the Office of Citizen Exchanges, but no guarantee is made or implied that grants will be made in all categories. Projects that foster networking across political as well as government-civil society divisions are encouraged.

Proposed activities will be supported only in those countries in which there is a Public Affairs Section (PAS) at the U.S. Embassy. Currently there is no PAS in Guinea Bissau, Cape Verde, Gambia, Burundi, Central African Republic, Equatorial Guinea, Gabon, Sao Tome and Principe, Djibouti, Lesotho, Sierra Leone, Somalia, Sudan, or Mauritania.

Proposals for single country, sub-regional and regional projects will be accepted. The Bureau encourages applicants to consider carefully the choice of target countries. In order to prevent duplication of effort, applicants should research the work of development agencies on the target themes, and select countries for which there has been limited investment on the issue. Applicants are welcome to contact the Public Affairs Sections in U.S. Embassies in Africa, or the Office of Citizen Exchanges, to discuss proposed activities and their relevance to mission priorities.

Proposals will be strengthened if partner organizations and individuals in Africa are identified and their commitment demonstrated. Previous cooperative programming and contacts with partners should be described. Specific information about the African organizations' activities and accomplishments is required and should be included in the section on “Institutional Capacity.”

ECA seeks programs that address the following themes: *

1. Equal Treatment of Women Under the Law

2. Joining Forces to Combat HIV/AIDS

3. Post-Election Training for Legislative Staff

4. Professionalism in the Media and Strengthening Journalistic Independence

5. Religious and Inter-Ethnic Conflict: Anti-Incitement and the Search for Common Ground

6. Transparency in Democratic Governance

7. U.S.-Africa Economic Partnership

8. Urban Environment

9. Women and Political Leadership

10. Women as Economic Partners in Nation Building

11. Young Leaders and the Building of Civil Society

* Funding for select projects may be provided by the Education for Development and Democracy Initiative.

Equal Treatment of Women Under the Law

We invite proposals for single-country or regional programs focusing on women's leadership in combating bias against women in the political, judicial and social sectors. Topics may include educating women about existing anti-discriminatory laws, including domestic violence legislation; understanding legal rights and options; addressing attitudes of the judiciary; building community support to combat violence against women, and/or education on the prevention of trafficking in women and girls.

Joining Forces To Combat HIV/AIDS

The Bureau welcomes proposals for creative community-based initiatives that, through public education, will promote better health care and prevent the spread of HIV/AIDS. Projects should explore the need to develop and reward leadership, and to remove barriers that impede a cooperative multi-sectoral response to HIV/AIDS. Citizen exchange projects should address some of following topics: Prevention and stigma reduction strategies, especially for women and youth; engagement of political, religious, cultural and other leaders in public education efforts; support for orphaned children; voluntary counseling; grassroots mobilization and advocacy. Of special interest to the Bureau is the link between cultural practices, the empowerment of women, and the spread of HIV/AIDS in Africa.

Post-Election Training for Legislative Staff

With national and local elections scheduled for many African countries in the year ahead, the Bureau is interested in programs that will enhance legislative staffers' management skills. Applicants must demonstrate expertise and knowledge of the political landscape and how the legislature functions in the target country. Programs may include a combination of U.S.-based internships, in-country workshops, roundtables, panel discussions, case studies and specially tailored projects. Training topics may address accountability to and communication with constituencies; working with the press; negotiation skills; conflict resolution; consensus building; coalition building (particularly related to bloc or partisan communications); ethics in government; working with diverse populations; conducting issue-related casework; drafting legislation and implementing policy.

Professionalism in the Media and Strengthening Journalistic Independence

Professionalism in the media—i.e., gaining an appreciation of and skill for objective reporting; developing subject specialization (e.g. justice/legal issues); giving fair coverage to positive as well as negative news; separating comment from news coverage; avoiding inflammatory presentations; maintaining independence from special interests; etc.—remains an area requiring serious development if the fourth estate is to fulfill its potential as a pillar of democratic society. Concomitantly, attention must be given to laws which constrain freedom of information and to forces which urge journalists, editors, producers and publishers to censor themselves, lest governments punish the media for having conveyed the message. We welcome proposals for exchange programs that improve professionalism generally in the media and strengthen specific efforts of individuals and organizations that report on issues of importance to national and/or regional development.

Religious and Inter-Ethnic Conflict: Anti-Incitement and the Search for Common Ground

The problems of incitement to hatred and violence, as well as those of ethnic/religious stereotyping, must be addressed as a key component of the consolidation of democracy in Africa. If peace is to have meaning, citizens of the region must address one another in constructive ways, overcoming the fears and resentments that have built up over time. A project that includes stakeholders from different nations, ethnic groups, or religious communities is solicited in an effort to expand the dialogue for coexistence. Two major components of any effort to focus on anti-incitement are the media and the educational establishment. One of the most important areas for the promotion of dialogue and mutual respect as well as the management of conflict is the media. Any effort in this area would need to involve expertise in conflict resolution as well as in professional journalism ethics and the addressing of problems of prejudice, discrimination, and outright incitement to violence. Incitement via curriculum and teacher prejudice is also a legitimate focus. A regional project to examine how contentious historical events are treated, how former enemies are portrayed, and how curricula can help advance tolerance and peace is a high priority.

Transparency in Democratic Governance

Proposals should work to strengthen institutions of government whose work has a direct impact on the quality of a country's democracy and to increase their transparency, accountability, responsiveness, and effectiveness of operations. Especially welcome would be proposals that address anti-corruption methods and ethics in government. Projects might focus on local government or elements of executive branches, legislatures, or judicial systems.

Urban Environment

The quality of life in urban areas throughout Africa is deteriorating rapidly due to unchecked population growth, the byproducts of industrialization, economic exploitation, conflict, and unprecedented—and unsatisfiable—demands on social infrastructure and natural resources. This undermines the viability of Africa's cities both as places to live and as commercial centers, and has become a serious threat to biodiversity. A project is needed which will bring together community activists, city officials, and industry and business representatives to address such urban environmental issues as the need for clean air, clean water, effective waste management, and recycling. Communities should be mobilized to practice environmental stewardship while supporting sustainable development, thereby creating a more hospitable environment for human habitation and for regional and international trade and investment.

U.S.-Africa Economic Partnership

The Bureau welcomes proposals that would encourage the creation of free trade areas through reduced tariff and non-tariff barriers. Such a project might be carried out with regional chambers of commerce and/or the Southern African Development Community (SADC) Secretariat. Proposals on free trade areas also would be of interest to posts in West and East Africa. Projects should foster an understanding of and commitment to policies and practices that support economic growth in a democratic framework through the private sector and international trade. Especially encouraged are proposals that focus on creating an “enabling environment” supportive of these goals. Related issues might include intellectual property rights, trade liberalization (e.g., tax and investment laws, along with other incentives), mechanisms of transparency and accountability, the role of business associations, and regional economic cooperation/integration.

Women as Economic Partners in Nation Building

In many countries in Africa, women are the backbone of the economy and yet they remain relatively unorganized and unconnected from one another. The organizations for businesswomen that do exist currently have the capacity to effect little systemic change, but have the potential to have a profound impact on the economy. Priority will be given to proposals that offer African businesswomen the opportunity to interact with U.S. women-owned businesses and interest groups, and to see first hand the work they do to enable businesswomen to network and profit from relationships they create, both domestically and internationally. Successful proposals will expose business leaders to democratic, team-centered approaches to organizational management appropriate to democratic, civil societies. Proposals may also encourage the development of self-help/micro-enterprise programs for women in disadvantaged communities, by providing training and counseling to loan recipients.

Women and Political Leadership

ECA welcomes proposals for single-country or regional programs with a focus on political leadership for women. Specifically, the program should combine elements such as leadership fundamentals, the introduction or improvement of skills associated with campaign management, accountability to constituencies, lobbying, surveying, polling, advocacy, voter outreach, networking, message development, working with the media, fundraising, and meeting challenges and responsibilities of public office once elected. Proposals must indicate a practical and sophisticated knowledge of the political and legislative environment in the target African country.

Young Leaders and the Building of Civil Society

Proposals should focus on the role that young African leaders should and can play in building civil society. Participants would be emerging leaders—recent graduates—who appear to be on a trajectory to prominent positions in their societies and/or work with youth organizations and non-governmental organizations. Issues to be addressed would include the meaning of civil society, the separation of powers, the role of non-governmental organizations, components of democracy, issues of national identity, democratic and team-centered approaches to organizational management, etc. The exchange should encompass both the theoretical and the experiential, with participants working with and learning from American young leaders active in the development and strengthening of civil society through civic education and grassroots mobilization. Of special interest to ECA are programs that focus on leadership programs for at-risk youth, and the reintegration of child soldiers into civil society.

Additional Guidelines for Africa

Equal Opportunities for Persons with Disabilities: The Bureau is particularly interested in projects that focus on or include persons with disabilities in any of the above-listed themes.

Opportunity for Small Grants Programming: Program plans for projects in any of the above themes may include a component for a Small Grants Competition (often referred to as “seed” grants). This requires a detailed plan for recruitment and advertising; sample application; description of the proposal review and award mechanism; a plan for how the grantee would monitor and evaluate small grant activity; and a proposed amount for an average grant. Funds for the Small Grants Competition should be no more than 25 percent total requested from the Bureau.

Content-Based Internet Training: The President has recently extolled the virtues of using the Internet to lift countries out of poverty. The Bureau therefore encourages applicants to use the Internet to assist African counterparts in conducting research, networking, and communicating on the above-listed priority issues. The purpose of the training is not to instruct in Internet technology and use, but to encourage citizen participation in workshops, fora, chats, and/or discussions via the Internet that will stimulate communication and information sharing on relevant topics. Proposals that include content-based Internet training must reflect knowledge of the opportunities and obstacles that exist for information technologies in the target country or countries, and, if needed, provide hardware, software and servers, preferably as a form of cost sharing.

Contact for ECA/PE/C/AF programs: Orna Blum, 202/260-2754; E-Mail {OBlum@pd.state.gov}

Near East and North Africa (NEA)

South Asia (SA)

Proposals that respond to the following suggested themes and organizational approaches will receive priority consideration in the awarding of grants for exchange activity in the Near East, North Africa, and South Asia. While not all countries suggested as participants for each project must be included in the exchange, and proposals for single-country projects will receive full consideration, projects bringing together representatives from three or more countries will be given priority consideration. Proposals for exchange projects that address issues of crucial importance to the United States and to proposed partner countries but that do not respond specifically to the themes included below will also be considered. The countries/entities comprising the NEA and SA AREAS are listed below. Currently there is no U.S. mission in Afghanistan, Iran, Iraq, or Libya. Please consider countries listed (specific interest) as potential exchange partners in projects that address the theme, but recognize that all themes may be appropriate for region-wide (any country or group of countries) consideration.

Countries/Entities of the Near East and North Africa

Algeria; Bahrain; Egypt; Iran; Iraq; Israel; Jordan; Kuwait; Lebanon; Libya; Morocco; Oman; Qatar; Saudi Arabia; Syria; Tunisia; the United Arab Emirates (UAE); the West Bank and Gaza; Yemen

Countries of South Asia

Afghanistan; Bangladesh; Bhutan; India; the Maldives; Nepal; Pakistan; Sri Lanka

Citizen Participation and Advocacy (Building and Strengthening Non-Governmental Organizations)

Of specific interest for India; Bangladesh; Pakistan; Nepal; Egypt; Morocco; Israel; the West Bank and Gaza; Lebanon; Syria; Saudi Arabia; Kuwait; and the UAE

Social and political activism, encouraged, focussed, and channeled through non-governmental organizations, is a basic underpinning of democratic society. Strengthening NGO advocacy skills, management, grassroots support, recruitment and motivation of volunteers, fundraising and financial management, media relations, and networking for mutual support and reinforcement will strengthen democratic/civil society trends in the region. Among other emphases, this project should focus on answering questions about the proper role of NGO's, facilitating Internet communication and on developing cooperation between educators and NGO's and between government agencies and NGO's for community action. It is essential that organizations submitting proposals in this category recognize that democratic activism is viewed with distrust by some of the governments in the area and that foreign involvement with local NGO's must be carefully thought out and approached with subtlety and sensitivity, as such involvement may be viewed with suspicion. Close consultation with American Embassy/Consulate officers is critical.

Women's Activism, Organizational Skills, and Political Leadership

Of specific interest for Egypt; Israel, Lebanon; Saudi Arabia; Kuwait; UAE; Bahrain; Oman; Qatar; Yemen.

This theme is also highly appropriate for a binational India-Pakistan project, a South Asia regional exchange, or a regional project involving the countries of the Arabian Gulf. Throughout the region, women exercise disproportionately little political and social influence. While some women's groups have organized themselves and actively campaign for equal rights and a greater say in local issues, women need to learn how to develop consensus on issues and build a constituency, mobilize support—both urban/political and grassroots—raise money at the municipal, state, and national levels, and how to win elections. Once elected, how can they most effectively represent the interests of their constituents? What can women activists do to affect policy as well as practice in the areas of health care, education, domestic violence, and equal treatment under the law?

Environmental Protection; Environmental Education; Wildlife Conservation

Of specific interest for Egypt; Israel; the West Bank and Gaza; Lebanon; Bahrain; India; and Nepal

Environmental degradation undermines the quality of human life. It is closely linked, both directly and indirectly, with issues of public health (air and water pollution; solid waste management) and economic welfare (preservation of natural sites; ecotourism; agricultural productivity; the rational management of natural resources). Pollutant-laden air and impure groundwater are trans-boundary issues, faced by all countries/entities. Projects are sought that enhance public awareness of the threat posed by environmental deterioration, that facilitate efforts to combat the threat by mobilizing either governmental or non-governmental organizations, and that work at multiple levels to educate and to develop solutions. Of special concern to India is the need for increased awareness and training regarding the treatment and disposal of hazardous, often medical/bio-medical, waste.

Professionalism in Media and the Strengthening of Journalistic Independence

Of specific interest for Israel; Jordan; the West Bank and Gaza; Lebanon; Tunisia; Morocco; India; Nepal; and Pakistan

The development of professionalism in media—gaining an appreciation for the importance of objective reporting; developing subject specialization; applying rational management techniques to newspaper publishing; etc.—remains an area in which serious efforts must be expended if the fourth estate is to fulfill its potential as a pillar of democratic society. Concomitantly, laws throughout the region constrain press freedoms, and journalists, editors, and publishers are forced to self-censor, lest governments punish the media for having conveyed the message. Projects are needed to address professionalism and to focus on training and advice to individuals and organizations devoted to the protection of press freedoms and to the defense of journalists and their right to practice their profession with integrity.

Judicial Reform and the Administration of Justice or Conflict Resolution/Consensual Dispute Resolution

Of specific interest for Egypt; Morocco; Tunisia; Oman; Lebanon; Israel; Bangladesh; India; Pakistan

A well trained, independent judiciary is fundamental to a democratic political and social system. The integrity of the judicial process and, by extrapolation, public confidence in the ability of the judicial process to deliver justice must be protected from political interference in legal proceedings and public perception of unequal and unfair treatment before the bench of women, members of ethnic minority communities, and the poor. Even well qualified and well intentioned judges are obstructed in their efforts to deliver justice by case backlog, by procedural delay, and by insufficient authority to exercise judicial discretion in court management. It is important that judges of both lower and higher courts be introduced to the principles and practices of U.S. jurisprudence and that such fundamental procedures as alternative dispute resolution, early neutral evaluation, case management, the acceptance of guilty pleas, continuous trial proceedings, and arbitration/mediation be familiar to them. A corollary to this issue, to be dealt with in the context of administration of justice, is the need to address the unequal treatment of women by officers at all levels within the justice system and of the need to recognize and seriously to deal with the problem of sexual harassment in the workplace.

Civic Education: Educating for Democracy

Of specific interest for Egypt; Israel; the West Bank and Gaza; Lebanon; Pakistan; Saudi Arabia; Kuwait; UAE

Enhanced citizen awareness of and increased participation in those activities that support democratic goals are a high priority. Regional or single-country exchange projects should be designed to assist educators, community activists, and journalists teach about and demonstrate the efficacy of civic responsibility, citizens' initiative, and tolerance while avoiding direct political advocacy for the establishment of “liberal democracy.” The importance of active citizenship and the potent role of democratically oriented institutions in social change should be highlighted, with emphasis on average citizens sharing a sense of responsibility for their national future, voluntarism, and promoting community initiatives for change. Participants might include teachers, administrators, curriculum planners, Ministry of Education policy-makers, community activists, journalists, etc.

Education

Of specific interest for Egypt and Israel

Curriculum development, textbook writing, teacher training and skills enhancement, and the teaching of English in context are all areas of strong need and interest. Special interest is expressed in the utilization of computers and the Internet to stimulate student creativity and to move away from rote learning.

Young Leaders and the Building of Civil Society

Of specific interest for Jordan; Israel; Egypt; the West Bank and Gaza; Lebanon; Morocco

This theme is also very appropriate for a joint India-Pakistan project or for a South Asia regional project. Proposals should focus on the role young leaders should and can play in building civil society. Participants would be emergent leaders—recent graduates—who appear to be on a trajectory to prominent positions in their societies and/or work with youth organizations and non-governmental organizations. Issues to be addressed would include the meaning of civil society, the role of a responsible citizenry, the separation of powers, the role—both in setting social agendas and in providing social services—of non-governmental organizations, components of democracy, the centrality of human rights, issues of national identity, etc. The exchange should encompass both the theoretical and the experiential, with participants working with and learning from American young leaders active in the development and strengthening of civil society.

Economic Policy, Investment, and the Norms of International Commerce

Of specific interest for Tunisia; Morocco; Algeria; and Egypt

The countries of North Africa would welcome proposals to strengthen ongoing efforts to establish a degree of regional economic integration, to stimulate serious thinking about transnational trade and investment, and to link North African business groups with American counterparts. Relevant issues to be incorporated into an exchange would be decentralization of commercial regulation, support for privatization, and competitiveness.

ECA/PE/CE/NEA contact for NEA and SA programs: Thomas Johnston, 202/619-5325; E-Mail (TJohnston@pd.state.gov)

Additional Guidance

The Office of Citizen Exchanges strongly encourages the coordination of activities with respected universities, professional associations, and major cultural institutions in the U.S. and abroad, but particularly in the U.S. Projects should be intellectual and cultural, not technical. Vocational training (an occupation other than one requiring a baccalaureate or higher academic degree; i.e., clerical work, auto maintenance, etc., and other occupations requiring less than two years of higher education) and technical training (special and practical knowledge of a mechanical or a scientific subject which enhances mechanical, narrowly scientific, or semi-skilled capabilities) are ineligible for support. In addition, scholarship programs are ineligible for support. The Office does not support proposals limited to conferences or seminars (i.e., one to fourteen-day programs with plenary sessions, main speakers, panels, and a passive audience). It will support conferences only insofar as they are part of a larger project in duration and scope that is receiving Bureau funding from this competition. Bureau-supported projects may include internships; study tours; short-term, non-technical training; and extended, intensive workshops taking place in the United States or overseas. The themes addressed in exchange programs must be of long-term importance rather than focused exclusively on current events or short-term issues. In every case, a substantial rationale must be presented as part of the proposal, one that clearly indicates the distinctive and important contribution of the overall project, including, where applicable, the expected yield of any associated conference. No funding is available exclusively to send U.S. citizens to conferences or conference-type seminars overseas; nor is funding available for bringing foreign nationals to conferences or to routine professional association meetings in the United States. Projects that duplicate what is routinely carried out by private sector and/or public sector operations will not be considered. The Office of Citizen Exchanges strongly recommends that applicants consult with host country U.S. Embassies prior to submitting proposals.

Selection of Participants

All grant proposals should clearly describe the type of persons who will participate in the program as well as the process by which participants will be selected. It is recommended that programs in support of U.S. internships include letters tentatively committing host institutions to support the internships. In the selection of foreign participants, the Bureau and U.S. Embassies abroad retain the right to nominate all participants and to accept or deny participants recommended by grantee institutions. However, grantee institutions are often asked by the Bureau to suggest names of potential participants. The grantee institution will also provide the names of American participants and brief (two pages) biographical data on each American participant to the Office of Citizen Exchanges for information purposes. Priority will be given to foreign participants who have not previously traveled to the United States.

Additional Guidance

The Office of Citizen Exchanges offers the following additional guidance to prospective applicants:

1. The Office of Citizen Exchanges encourages project proposals involving more than one country. Pertinent rationale which links countries in multi-country projects should be included in the submission. Single-country projects that are clearly defined and possess the potential for creating and strengthening continuing linkages between foreign and U.S. institutions are also welcome.

2. Proposals for bilateral programs are subject to review and comment by the Embassy representative in the relevant country, and pre-selected participants will also be subject to Embassy review.

3. Bilateral programs should clearly identify the counterpart organization and provide evidence of the organization's participation.

4. The Office of Citizen Exchanges will consider proposals for activities that take place exclusively in other countries when U.S. Embassies are consulted in the design of the proposed program and in the choice of the most suitable venues for such programs.

5. Office of Citizen Exchanges grants are not given to support projects whose focus is limited to technical or vocational subjects, or for research projects, for publications funding, for student and/or teacher/faculty exchanges, for sports and/or sports related programs. Nor does this office provide scholarships or support for long-term (a semester or more) academic studies. Competitions sponsored by other Bureau offices are also announced in the Federal Register.

For projects that would begin after December 31, 2001, competition details will be announced in the Federal Register on or about June 1, 2001. Inquiries concerning technical requirements are welcome prior to submission of applications.

Funding

Although no set funding limit exists, proposals for less than $135,000 will receive preference. Organizations with less than four years of successful experience in managing international exchange programs are limited to $60,000. Applicants are invited to provide both an all-inclusive budget as well as separate sub-budgets for each program component, phase, location, or activity in order to facilitate Bureau decisions on funding. While an all-inclusive budget must be provided with each proposal, separate component budgets are optional. Competition for Bureau funding support is keen. To illustrate, the Bureau received 94 grant proposals in response to the FY-2000 Open Grants Program. Funding from Bureau resources and Interagency transfer supported a total of 26 awards. The selection of grantee institutions will depend on program substance, cross-cultural sensitivity, and ability to carry out the program successfully. Since Bureau grant assistance constitutes only a portion of total project funding, proposals should list and provide evidence of other anticipated sources of financial and in-kind support. Proposals with substantial private sector support from foundations, corporations, and other institutions, will be deemed highly competitive. The Recipient must provide a minimum of 33 percent cost sharing of the total project cost.

The following project costs are eligible for consideration for funding:

1. Travel costs. International and domestic air fares; visas; transit costs; ground transportation costs. Please note that all air travel must be in compliance with the Fly America Act. There is no charge for J-1 visas for participants in Bureau sponsored programs.

2. Per Diem. For the U.S. program, organizations have the option of using a flat $160/day for program participants or the published U.S. Federal per diem rates for individual American cities. For activities outside the U.S., the published Federal per diem rates must be used. Note: U.S. escorting staff must use the published Federal per diem rates, not the flat rate. Per diem rates may be accessed at http://www.policyworks.gov/.

3. Interpreters: If needed, interpreters for the U.S. program are available through the State Department's Language Services Division. Typically, a pair of simultaneous interpreters is provided for every four visitors who need interpretation. Bureau grants do not pay for foreign interpreters to accompany delegations from their home country. Grant proposal budgets should contain a flat $160/day per diem for each Department of State interpreter, as well as home-program-home air transportation of $400 per interpreter plus any U.S. travel expenses during the program. Salary expenses are covered centrally and should not be part of an applicant's proposed budget. Locally-arranged interpreters with adequate skills and experience may be used by the grantee in lieu of State Department interpreters, with the same 1:4 interpreter:participation ratio. Costs associated with using their services may not exceed rates for State Department interpreters.

4. Book and cultural allowance: Foreign participants are entitled to and escorts are reimbursed a one-time cultural allowance of $150 per person, plus a participant book allowance of $50. U.S. program staff are not eligible to receive these benefits.

5. Consultants. Consultants may be used to provide specialized expertise or to make presentations. Honoraria generally do not exceed $250 per day. Subcontracting organizations may also be used, in which case the written agreement between the prospective grantee and subcontractor should be included in the proposal. Subcontracts should be itemized in the budget.

6. Room rental. Room rental may not exceed $250 per day.

7. Materials development. Proposals may contain costs to purchase, develop, and translate materials for participants.

8. Equipment. Proposals may contain limited costs to purchase equipment crucial to the success of the program, such as computers, fax machines and copy machines. However, equipment costs must be kept to a minimum, and costs for furniture are not allowed.

9. Working Meal. The grant budget may provide for only one working meal during the program. Per capita costs may not exceed $5-8 for a lunch and $14-20 for a dinner, excluding room rental. The number of invited guests may not exceed participants by more than a factor of two-to-one. Interpreters must be included as participants.

10. Return travel allowance. A return travel allowance of $70 for each foreign participant may be included in the budget. This may be used for incidental expenses incurred during international travel.

11. Health Insurance. Foreign participants will be covered under the terms of a Department of State-sponsored health insurance policy. The premium is paid by the Department of State directly to the insurance company. Applicants are permitted to include costs for travel insurance for U.S. participants in the budget.

12. Administrative Costs. Costs necessary for the effective administration of the program may include salaries for grant organization employees, benefits, and other direct or indirect costs per detailed instructions in the Solicitation Package. Note: the 20 percent limitation of “administrative costs” included in previous announcements does not apply to this RFP. Please refer to the Solicitation Package for complete budget guidelines.

Review Process

The Bureau will acknowledge receipt of all proposals and will review them for technical eligibility. Proposals will be deemed ineligible if they do not fully adhere to the guidelines established herein and in the Solicitation Packet. Eligible proposals will be forwarded to panels of Bureau officers for advisory review. All eligible proposals will also be reviewed by the program office, as well the U.S. Embassy officers for advisory review, where appropriate. Proposals may also be reviewed by the Office of the Legal Advisor or by other offices in the Department of State. Funding decisions will be made at the discretion of the Under Secretary for Public Diplomacy and Public Affairs. Final technical authority for assistance awards (grants or cooperative agreements) resides with the Bureau's Grants Officer.

Review Criteria

The Bureau will consider proposals based on their conformance with the objectives and considerations already stated in this RFP, as well as the following criteria:

1. Quality of Program Idea: Proposals should exhibit originality, substance, precision, and relevance to the Agency mission.

2. Program Planning/Ability to Achieve Program Objectives:Detailed agenda and relevant work plan should demonstrate substantive undertakings and logistical capacity. Agenda and plan should adhere to the program overview and guidelines described above. Objectives should be reasonable, feasible, and flexible. Proposals should clearly demonstrate how the institution will meet the program objectives and plan.

3. Multiplier Effect/Impact: Proposed programs should strengthen long-term mutual understanding, including maximum sharing of information and establishment of long-term institutional and individual linkages.

4. Support of Diversity: Proposals should demonstrate the substantive support of the Bureau's policy on diversity. Program content (training sessions, resource materials, follow-on activities) and program administration (participant selection process, orientation, evaluation, resource/staff persons) should address diversity in a comprehensive and innovative manner. Applicants should refer to the Bureau's Diversity, Freedom and Democracy Guidelines on page four of the Proposal Submission Instructions (PSI).

5. Institutional Capacity/Reputation/Ability: Proposed personnel and institutional resources should be adequate and appropriate to achieve the program's or project's goal. Proposals should demonstrate an institutional record of successful exchange programs, including responsible fiscal management and full compliance with all reporting requirements for past Bureau grants as determined by the Bureau's Office of Contracts. The Bureau will consider the past performance of prior recipients and the demonstrated potential of new applicants.

6. Follow-on Activities: Proposals should provide a plan for continued follow-on activity (without Bureau support) which ensures that Bureau-supported programs are not isolated events.

7. Evaluation Plan: Proposals should provide a plan for a thorough and objective evaluation of the program/project by the grantee institution.

8. Cost-Effectiveness/Cost Sharing: The overhead and administrative components of the proposal, including salaries and honoraria, should be kept as low as possible. All other items should be necessary and appropriate. Proposals should maximize cost-sharing through other private sector support as well as institutional direct funding contributions.

Notice

The terms and conditions published in this RFP are binding and may not be modified by any Bureau representative. Explanatory information provided by the Bureau that contradicts published language will not be binding. Issuance of the RFP does not constitute an award commitment on the part of the Government. The Bureau reserves the right to reduce, revise, or increase proposal budgets in accordance with the need of the program and the availability of funds. Organizations will be expected to cooperate with the Bureau in evaluating their programs under the principles of the Government Performance and Results Act of 1993, which requires federal agencies to measure and report on the results of their programs and activities.

Notification

Final awards cannot be made until funds have been fully appropriated by the Congress, allocated, and committed through internal Bureau procedures.

Dated: July 26, 2000.
Evelyn S. Lieberman,
Under Secretary for Public Diplomacy and Public Affairs, U.S. Department of State.

[FR Doc. 00-19572 Filed 8-2-00; 8:45 am]

BILLING CODE 4710-05-P